DEPARTMENT OF COMMERCE

National Oceanic and Atmospheric Administration

RIN 0648-XD525

Gulf of Mexico Fishery Management Council (Council); Public Meeting

AGENCY: National Marine Fisheries Service (NMFS), National Oceanic and Atmospheric Administration (NOAA), Commerce.

ACTION: Notice of public meeting.

SUMMARY: The Gulf of Mexico Fishery Management Council (Council) will hold meetings of the: Joint Law Enforcement Committee, Gulf Council's Law Enforcement Advisory Panel Committee, and Gulf States Law Enforcement Committee, Red Drum Management Committee, Joint Administrative Policy and Budget/Personnel Committees, Data Collection Management Committee, Gulf SEDAR Committee, Reef Fish Committee, Mackerel Committee, and Shrimp Management Committee; in conjunction with a meeting of the Full Council. The Council will also hold a formal public comment session.

DATES: The Council meeting will convene 8:30 a.m. on Monday, October 20 until 5:30 p.m. on Thursday, October 23, 2014.

ADDRESSES: Meeting address: The meeting will be held at The Battle House Renaissance Mobile Hotel and Spa, located at 26 North Royal Street, Mobile, AL 36602; telephone: (251) 338-2000.

Council address: Gulf of Mexico Fishery Management Council, 2203 North Lois Avenue, Suite 1100, Tampa, FL 33607.

FOR FURTHER INFORMATION CONTACT: Mr. Douglas Gregory, Executive Director, Gulf of Mexico Fishery Management Council; telephone: (813) 348-1630; fax: (813) 348-1711; email: doug.gregory@gulfcouncil.org.

SUPPLEMENTARY INFORMATION: The items of discussion for each individual management committee agenda are as follows:

Joint Meeting of the Gulf Council's Law Enforcement Administrative Committee (Council), Law Enforcement Advisory Panel, and Gulf States Law Enforcement Committee Agenda, Monday, October 20, 2014, 8:30 a.m. until 11 a.m.

• Usefulness of Charter-for-hire Decals

• Review of Draft Definition of Charter Fishing

• Port Eads, Louisiana Marina Access

• Overview of Office of Law Enforcement (OLE) Gulf Restructuring

• Review of 2015-2016 Cooperative Enforcement Operations Plan

• State Report Highlights

Red Drum Management Committee Agenda, Monday, October 20, 2014, 11 a.m. until 11:30 a.m.

• Scoping Document for Recreational Red Drum Management and Update From Special Red Drum Working Group

- Recess -

Joint Meeting of the Administrative Policy and Budget/Personnel Committees Agenda, Monday, October 20, 2014, 1 p.m. until 3 p.m.

• Review of 2010-2014 Expenditures and Budget Carryover to 2015

• Review and Discussion of Potential Contractual Projects

• Update on Advisory Panels (AP) and Scientific and Statistical Committees (SSC) Appointment Process and Structure

• Discussion of SSC Conflict of Interest Policy

• Continued Review of Draft Statement of Organization Practices and Procedures (SOPPs) Revisions

Data Collection Administrative Committee Agenda, Monday, October 20, 2014, 3 p.m. until 4:30 p.m.

• Calibration Workshop Summary Report

• Discussion of South Atlantic Council Recommendations for Electronic Charter Boat Reporting

• Discussion of Species Reporting Requirements Under the Joint Electronic Dealer Reporting Amendment

• Discussion of Strategies to Improve Private Recreational Data Collection and Management

Gulf SEDAR Committee Agenda, Monday, October 20, 2014, 4:30 p.m. until 5:30 p.m.

• SEDAR 38—Gulf of Mexico and South Atlantic King Mackerel

• SEDAR Steering Committee Update

• SEDAR Schedule Review

• Updated List of Fishery Research and Socio-economic Priorities for 2015-2019

- Recess -

Reef Fish Management Committee Agenda, Tuesday, October 21, 2014, 8:30 a.m.-11:30 a.m. & 1 p.m.-5:30 p.m.

• Estimates of Red Snapper Abundance on Alabama's Offshore Reefs

• Amendment 39—Red Snapper Regional Management

• Final Action—Amendment 40—Recreational Red Snapper Sector Separation

• Individual Fishing Quota (IFQ) Program Review

• Gag Overfishing Limit (OFL) and Acceptable Biological Catch (ABC)

• Final Action—Red Grouper Bag Limit and Accountability Measures Framework Action

• Hogfish Benchmark Assessment Overfishing Limit (OFL) and Acceptable Biological Catch (ABC)

• Greater Amberjack Annual Catch Limit (ACL)/Annual Catch Target (ACT) Options Paper

• Amendment 28—Red Snapper Allocation

• Southeast Fisheries Science Center (SEFSC) Comments on Red Snapper Abundance Graph

- Recess -

Mackerel Management Committee Agenda, Wednesday, October 22, 2014, 8:30 a.m. until 9:30 a.m.

• Final Action—Framework Amendment 2 to the Coastal Migratory Pelagics Fishery Management Plan (FMP) for Atlantic Migratory Group Spanish Mackerel Trip Limits

• Other Business—King Mackerel Gill Net Concerns

Shrimp Management Committee Agenda, Wednesday, October 22, 2014, 9:30 a.m.-11 a.m.

• Final Action—Shrimp Amendment 15—Status Determination Criteria for Penaeid Shrimp and Adjustments to the Shrimp Framework Procedure

• Final Action—Shrimp Amendment 16—Adjustments to the Annual Catch Limit and Accountability Measures for Royal Red Shrimp

• Shrimp Amendment 17—Scoping Document of the Shrimp Permit Moratorium

• 2013 Shrimp Effort and Shrimp Electronic Logbook (ELB) Program Update

Council Session Agenda, Wednesday, October 22, 2014, 11 a.m. until 7:30 p.m.

11 a.m.-11:10 a.m.: Call to Order and Introductions, Adoption of Agenda, and Approval of Minutes

11:10 a.m.-11:15 a.m.: Approval of 2015 Committee Appointments

11:15 a.m.-2:30 p.m.: The Council will receive presentations on the Proposed Rule Update for the Aquaculture Fishery Management Plan (FMP), Evaluation of the Status of Kemp's Ridley Sea Turtle Following the 2010 Deepwater Horizon Spill using a Revised Assessment Model, Update on Red Snapper Federal Violations.

2:30 p.m.-5 p.m.: The Council will receive public testimony on Final Action on Reef Fish Amendment 40—Sector Separation, Final Action on Shrimp Amendment 15—Status Determination Criteria for Penaeid Shrimp and Adjustments to the Shrimp Framework Procedure, Final Action on Shrimp Amendment 16—Adjustments to the Annual Catch Limit and Accountability Measures for Royal Red Shrimp, Final Action on Framework Action to Modify Recreational Red Grouper Bag Limits and Accountability Measures, Final Action on Framework Amendment 2 to the Coastal Migratory Pelagics Fishery Management Plans (FMP)—Atlantic Migratory Group Spanish Mackerel Trip Limits, and open testimony on any other fishery issues or concerns. People wishing to speak before the Council should complete a public comment card prior to the comment period.

- Recess -

5:30 p.m.-7:30 p.m.: The Council will continue to receive public testimony.

- Recess -

Council Session Agenda, Thursday, October 23, 2014, 8:30 a.m. until 5:30 p.m.

8:30 a.m.-4:30 p.m.: The Council will continue to receive committee reports from the following: Reef Fish Management Committee (8:30 a.m.-11:30 a.m.), Shrimp Management Committee (1 p.m.-1:30 p.m.), Red Drum Management Committee (1:30 p.m.-1:45 p.m.), Gulf SEDAR Management Committee (1:45 p.m.-2 p.m.), Joint Law Enforcement Committees (2 p.m.-3 p.m.), Mackerel Management Committee (3 p.m.-3:30 p.m.), Data Collection Administrative Committee (3:30 p.m.-4 p.m.), and the Joint Administrative Policy and Budget/Personnel Committee (4 p.m.-4:30 p.m.)

4:30 p.m.-5:15 p.m.: The Council will receive a summary report on the Pacific Fishery Management Council Meeting and an update on the RESTORE Act Science Program.

5:15 p.m.-5:30 p.m.: Other Business—Status of Biscayne National Park Implementation of Fishing Regulations

-Adjourn -

The Agenda is subject to change, and the latest version will be posted on the Council's file server, which can be accessed by going to the Council Web site at http://www.gulfcouncil.org and clicking on FTP Server under Quick Links. For meeting materials see folder “Briefing Books/Briefing Book 2014-10” on Gulf Council file server. The username and password are both “gulfguest”. The meetings will be webcast over the internet. A link to the webcast will be available on the Council's Web site, http://www.gulfcouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: September 30, 2014.
Tracey L. Thompson,
Acting Deputy Director, Office of Sustainable Fisheries, National Marine Fisheries Service.

[FR Doc. 2014-23616 Filed 10-2-14; 8:45 am]

BILLING CODE 3510-22-P